DEPARTMENT OF THE INTERIOR

Bureau of Reclamation

Long-Term Miscellaneous Purposes Contract, Carlsbad Irrigation District, New Mexico

AGENCY: Bureau of Reclamation, Interior.

ACTION: Notice of intent to prepare a draft environmental impact statement and announcement of a public scoping meeting.

SUMMARY: Pursuant to the National Environmental Policy Act (NEPA) of 1969, as amended, the Bureau of Reclamation (Reclamation) and the New Mexico Interstate Stream Commission (NMISC) intend to prepare a draft environmental impact statement (EIS) on the execution of a long-term contract, based upon the 1920 Sale of Water for Miscellaneous Purposes Act (long-term miscellaneous purposes contract) with the Carlsbad Irrigation District (CID), New Mexico, and the subsequent conversion and delivery of the full amount of irrigation water addressed in the contract and any related contracts (hereinafter collectively referred to as a single contract). Reclamation is the lead Federal agency and the NMISC will serve as a joint lead agency for NEPA compliance for the proposed Federal action.

DATES AND ADDRESSES: To receive input from interested organizations and individuals, a public scoping meeting will be held on February 12, 2004, in Carlsbad, New Mexico. Scoping is an early and public process for determining the issues to be addressed and identifying any significant issues related to the proposed Federal action. The scoping period will be open from January 20, 2004 to March 15, 2004. The public scoping meeting will be held at the following time and location:

• Thursday, February 12, 2004—7 to 9 p.m., Best Western Stevens Inn, Room No. 4, 1829 South Canal Street, Carlsbad, New Mexico.

Reclamation also invites written comments during the scoping period. Written comments regarding the scope and content of the draft EIS may be sent directly to Marsha Carra, Bureau of Reclamation, Albuquerque Area Office, 555 Broadway NE., Suite 100, Albuquerque, New Mexico 87102; telephone (505) 462-3602; facsimile (505) 462-3797; e-mail: mcarra@uc.usbr.gov. Written comments should be received no later than March 15, 2004, to be considered most effectively.

Those not desiring to submit comments or suggestions at this time, but who would like to receive a copy of the draft EIS, should contact Marsha Carra. When the draft EIS is complete, its availability will be announced in the Federal Register, in the local news media, and through direct contact with interested parties. Comments will be solicited on the draft document.

FOR FURTHER INFORMATION CONTACT: Marsha Carra, Bureau of Reclamation, Albuquerque Area Office, 555 Broadway NE., Suite 100, Albuquerque, New Mexico 87102; e-mail: mcarra@uc.usbr.gov; telephone (505) 462-3602; or Sara Rhoton, New Mexico Interstate Stream Commission, Bataan Memorial Building, State Capitol, P.O. Box 25102, Santa Fe, New Mexico 87504; e-mail: srhoton@ose.state.nm.us; telephone (505) 827-3996.

SUPPLEMENTARY INFORMATION: The purpose of Reclamation's proposed Federal action is to allow the NMISC to use Carlsbad Project water (Project water) allotted to land located inside the boundaries of the CID that NMISC owns or leases from other members of the CID, or other Project water, for release from facilities serving the Carlsbad Project. The underlying need for Reclamation's action is to help the NMISC comply with the Pecos River Compact and the United States Supreme Court Amended Decree in Texas v. New Mexico. “Other Project water” consists of water that is allotted to land on the CID assessment rolls that is available for lease under a Contingent Water Contract where: (1) Willing lessors temporarily forego irrigation of their lands in an irrigation season (fallowed land water) or (2) allotted water is not delivered to farms by October 31 of a given year (undelivered allotment water). The long-term miscellaneous purposes contract would replace a 1999 short-term contract that Reclamation currently has with the CID that allows the NMISC to use water allotted to CID lands leased by the NMISC or lease other available Carlsbad Project water.

The State of New Mexico ex rel. the State Engineer, NMISC, Reclamation, CID, and the Pecos Valley Artesian Conservancy District entered into a Settlement Agreement on March 25, 2003, that resolves litigation, implements a plan to ensure delivery of water to the CID and New Mexico-Texas state line, and settles many water management issues on the Pecos River. An ad hoc committee comprised of water users in the Pecos River Basin was formed to develop a solution for long-term compliance with the Pecos River Compact and Amended Decree, resulting in the Settlement Agreement. In addition, the Settlement Agreement is contingent on fulfilling certain conditions, including execution of a long-term miscellaneous purposes contract.

For several years Reclamation and the NMISC have worked together to address Pecos River water issues. Recently, the two agencies developed an approach for the environmental review of proposed Pecos River Basin activities that involves two concurrent EIS's: the Miscellaneous Purposes Contract EIS (the subject of this Notice of Intent) and the Carlsbad Project Water Operations and Water Supply Conservation EIS. The latter EIS is being developed to address Reclamation's Carlsbad Project water operations and water acquisition program. The Miscellaneous Purposes Contract EIS will address the effects of entering into a long-term miscellaneous purposes contract and the subsequent conversion and delivery of the full amount of irrigation water addressed in the miscellaneous purposes contract. Reclamation and the NMISC plan to coordinate the environmental analyses for both EIS processes.

The Carlsbad Project is a Federal Reclamation project authorized to irrigate 25,055 acres. Reclamation stores and delivers Carlsbad Project water for the benefit of the CID. Carlsbad Project facilities on the Pecos River include Santa Rosa Dam (owned and operated by the U.S. Army Corps of Engineers), Sumner Dam, Brantley Dam, and Avalon Dam. The NMISC plans to purchase land, and water rights appurtenant thereto, within the boundaries of the CID.

On February 28, 2003, Reclamation published a notice in the Federal Register stating plans to execute a contract with the CID that would allow the NMISC to use water allotted for up to 6,000 acres, or other available Project water, for purposes other than irrigation. These 6,000 acres, plus 164 acres that the NMISC currently owns within the boundaries of the CID, would be fallowed under this contract. Execution of this contract would not preclude future use of the water for irrigation purposes on lands owned by the NMISC. The Commissioner of Reclamation has granted approval to negotiate and execute a long-term miscellaneous purposes contract, pursuant to authority provided by the Sale of Water for Miscellaneous Purposes Act of February 25, 1920, whereby the NMISC would be limited to using or leasing a maximum of 50,000 acre-feet of Project water per year.

The draft EIS on the execution of a long-term miscellaneous purposes contract, and the subsequent conversion and delivery of the full amount of irrigation water addressed in the long-term miscellaneous purpose contract, will disclose the effects of the NMISC's use of this water and identify options to mitigate for any adverse impacts. Any proposed mitigation will comply with State, Federal, and other applicable laws and regulations. During the EIS process, opportunities to provide additional environmental, recreational, and social benefits may be identified and incorporated into the EIS.

The alternatives to be analyzed in the draft Miscellaneous Purposes Contract EIS will include the execution of a long-term miscellaneous purposes contract (Proposed Action Alternative), any other alternatives identified that fulfill the purpose and need, and a No Action Alternative. The draft EIS will assess the potential effects that the alternatives may have on Indian trust assets as well as any potential disproportionate effects on minority or low-income communities (environmental justice). The draft EIS will also evaluate the effects of the alternatives on the State of New Mexico's ability to meet annual state line delivery obligations associated with the Pecos River Compact and Amended Decree.

Public Disclosure

It is Reclamation's practice to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: January 7, 2004.
Rick L. Gold,
Regional Director—Upper Colorado Region, Bureau of Reclamation.

[FR Doc. 04-1097 Filed 1-16-04; 8:45 am]

BILLING CODE 4310-MN-P